NEIGHBORHOOD REINVESTMENT CORPORATION

Regular Board of Directors Meeting; Sunshine Act

TIME AND DATE: 11 a.m., Tuesday, March 22, 2011.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. CALL TO ORDER

II. Approval of the Minutes

III. Approval of the Minutes

IV. Summary Report of the Audit Committee

V. Summary Report of the Finance, Budget and Program Committee

VI. Summary Report of the Corporate Administration Committee

VII. Financial Report & Budget

VIII. National Foreclosure Mitigation Counseling (NFMC)

IX. Management Report

X. Strategic Plan

XI. Adjournment

Erica Hall,
Assistant Corporate Secretary.

[FR Doc. 2011-6345 Filed 3-15-11; 11:15 am]

BILLING CODE 7570-02-P